DEPARTMENT OF DEFENSE

Department of the Army

Notice of Intent To Prepare a Supplemental Draft Environmental Impact Statement (SDEIS) for the National Training Center (NTC) Land Expansion Proposal at Fort Irwin, California and Notice of Substitution of Lead Agency

AGENCY: U.S. Army National Training Center and Fort Irwin, Department of the Army, DoD.

ACTION: Notice of intent and notice of substitution of lead agency.

SUMMARY: Fort Irwin proposes to expand upon existing maneuver land in order to meet training needs for force-on-force and live fire training of heavy brigade and battalion-sized task forces. The advances in weapon systems (e.g., longer engagement ranges) require units to cover and operate over more ground (50km x 100km, as opposed to the 26km x 58km maneuver space currently available). The need for additional maneuver land at the NTC was identified because of changes in doctrine, equipment, and tactics. The need was validated and quantified by two Land Use Requirement Studies (LURS). The studies indicated a shortfall of approximately 193,000 acres. In 1997, a Draft Environmental Impact Statement (DEIS) was released for the proposed project. The DEIS examined several different alternatives and identified the preferred alternative as the “Silurian Valley Alternative,” an alternative that consisted of acquiring lands that lay primarily to the east and north of the present boundaries of Fort Irwin. After examining the impacts and feasibility of the alternatives contained within the DEIS, it was determined that no alternative in the 1997 DEIS, including the preferred alternative, met the Army's project goals and requirements.

As such, new alternatives have been formulated that now must be examined in a supplement to the 1997 DEIS. The new alternatives consist of various configurations of land that is to the east, west and south of the existing boundaries and will also utilize land within Fort Irwin boundaries that are currently off limits to mechanized training. Due to the age of the 1997 DEIS and the data contained therein, the supplement will also update all existing condition information for the study area and, as such, constitutes a complete redraft in addition to being a supplemental document.

The preferred alternative involves acquisition of approximately 110,000 new acres on the east and southwest sides of the existing NTC and the return to training use of approximately 22,000 acres in the south that are currently set aside on the NTC. While the proposed land expansion is less than the 193,000 acres identified in the LURS, it satisfies the most critical needs for additional maneuver land, while taking into account the Army's environmental stewardship responsibilities.

The Department of the Army has assumed responsibility for the SDEIS and has replaced the Bureau of Land Management as lead agency for this project. The Bureau of Land Management shall hereafter act as a cooperating agency to the project.

ADDRESSES: Direct written inquiries or comments concerning the proposed land expansion of the NTC and Fort Irwin to: NTC Land Expansion Program, Mr. Tim Reischl, NTC Site Manager, AFZJ-SP Strategic Planning Division, P.O. 105004, Forth Irwin, CA 92310.

FOR FURTHER INFORMATION CONTACT: Mr. Tim Reischl at (760) 380-3872 by fax at (760) 380-2294 or Mr. Gary Ethridge at (909) 695-1999.

SUPPLEMENTARY INFORMATION: The SDEIS will consider reasonable alternatives including expansion (1) only to the east, (2) the east and south, (3) to the east and southwest and (4) to the east and west. The no action (continue operations with existing ranges and facilities) alternative required by National Environmental Policy Act will be evaluated. Other reasonable alternatives will also be considered.

Significant issues: The primary issues to be analyzed in this SDEIS include: Endangered species issues (potential impacts to two listed species—desert tortoise and Lane Mountain Milk vetch), air quality including PM10 standards, noise (aircraft/range firing), soil erosion, water quality, cultural resources, and other issues raised during public scoping.

Scoping: The SDEIS is being prepared as a supplement to the draft EIS published in 1997. The supplement considers other land and alternatives that were not considered in the DEIS. As such, an additional scoping meeting will be conducted on November 29, 2001, 2-5 p.m. and 6-9 p.m. in the Barstow City Hall Council Chambers, 220 E. Mountain View Avenue, Barstow. Additional, the public will be notified through media and proper channels of the date, time and location. A mailing list has been prepared for public scoping and review throughout the process of preparation of this SDEIS. This list includes local, state and Federal officials having jurisdictional expertise or other interests in the project; concerned citizens; conservation groups; and local news media.

To comment by electronic mail or for more information, see the web site at www.fortirwinlandexpansion.com.

Dated: October 10, 2001.
Raymond J. Fatz,
Deputy Assistant Secretary of the Army (Environment, Safety and Occupational Health) OASA (I&E).

[FR Doc. 01-25996 Filed 10-15-01; 8:45 am]

BILLING CODE 3710-08-M